DEPARTMENT OF ENERGY

Federal Energy Regulatory Commission

Combined Notice of Filings # 1

April 2, 2007.

Take notice that the Commission received the following electric corporate filings:

Docket Numbers: EC07-73-000.

Applicants: STI Capital Company; Pedricktown Plant Holdings, LLC.

Description: STI Capital Company and Pedricktown Plant Holdings submit an application for authorization to dispose of jurisdictional facilities.

Filed Date: 03/28/2007.

Accession Number: 20070330-0023.

Comment Date: 5 p.m. Eastern Time on Wednesday, April 18, 2007.

Take notice that the Commission received the following electric rate filings:

Docket Numbers: ER97-4281-016; ER99-2161-007; ER99-3000-006; ER02-1572-004; ER02-1571-004; ER99-1115-011; ER99-1116-011; ER00-2810-005; ER99-4359-004; ER99-4358-004; ER99-2168-007; ER98-1127-011; ER07-649-001; ER99-2162-007; ER00-2807-005; ER00-2809-005; ER98-1796-010; ER00-1259-006; ER99-4355-004; ER99-4356-004; ER00-3160-006; ER99-4357-004; ER00-3160-006; ER00-2313-006; ER02-2/-004; ER02-1396-004; ER02-1412-004; ER00-3718-005; ER99-3637-005; ER07-486-002; ER99-1712-007; ER00-2808-006.

Applicants: NRG Power Marketing, Inc.; Arthur Kill Power LLC; Astoria Gas Turbines Power LLC; Bayou Cove Peaking Power LLC; Big Cajun I Peaking Power LLC; Cabrillo Power I LLC; Cabrillo Power II LLC; Conemaugh Power LLC; Connecticut Jet Power LLC; Devon Power LLC; Dunkirk Power LLC; El Segundo Power, LLC; El Segundo Power II LLC; Huntley Power LLC; Indian River Power LLC; Keystone Power LLC; Long Beach Generation LLC; Louisiana Generating LLC; Middletown Power LLC; Montville Power LLC; NEO Freehold-Gen LLC; Norwalk Power LLC; NRG Energy Center Dover LLC; NRG Energy Center Paxton LLC; NRG New Jersey Energy Sales LLC; NRG Rockford LLC; NRG Rockford II LLC; NRG Sterlington Power LLC; Oswego Harbor Power LLC; Saguaro Power Company, A Limited Partnership; Somerset Power LLC; Vienna Power LLC

Description: NRG Power Marketing, Inc and thirty-one affiliates most of which own generating facilities submit a triennial market power update and notice of change in status.

Filed Date: 03/26/2007.

Accession Number: 20070330-0022.

Comment Date: 5 p.m. Eastern Time on Monday, April 16, 2007.

Docket Numbers: ER99-2342-010.

Applicants: Tampa Electric Company.

Description: Tampa Electric Company submits a refund report.

Filed Date: 03/19/2007.

Accession Number: 20070319-5044.

Comment Date: 5 p.m. Eastern Time on Monday, April 09, 2007.

Docket Numbers: ER02-488-006.

Applicants: Midwest Independent Transmission System Operator, Inc.

Description: Midwest Independent Transmission System Operator, Inc submits an amendment to its 2/12/07 submittal, proposed revisions to the Operating Protocol for Existing Generators, First Revised Rate Schedule 4.

Filed Date: 03/29/2007.

Accession Number: 20070402-0078.

Comment Date: 5 p.m. Eastern Time on Thursday, April 19, 2007.

Docket Numbers: ER06-275-002.

Applicants: Northeast Utilities Service Company.

Description: Connecticut Light and Power Company et al. submit a supplemental filing providing back-up data detailing the actual CWIP and AFUDC monthly balances etc. in response to FERC's directives and its (2006) Order.

Filed Date: 03/16/2007.

Accession Number: 20070330-0020.

Comment Date: 5 p.m. Eastern Time on Friday, April 06, 2007.

Docket Numbers: ER07-516-001.

Applicants: Morgan Stanley Capital Group Inc.

Description: Morgan Stanley Capital Group Inc submits an amended report and declaration regarding a bilateral spot transaction for which MSCG was the seller in the Western Electricity Coordinating Council region.

Filed Date: 03/29/2007.

Accession Number: 20070402-0092.

Comment Date: 5 p.m. Eastern Time on Thursday, April 19, 2007.

Docket Numbers: ER07-529-001.

Applicants: Midwest Independent Transmission System Operator, Inc.

Description: Midwest Independent Transmission System Operator, Inc submits a Substitute Fourth Revised Sheet 7 et al. to FERC Electric Tariff, Third Revised Volume 1 pursuant to section 205 of the FPA.

Filed Date: 03/29/2007.

Accession Number: 20070402-0068.

Comment Date: 5 p.m. Eastern Time on Thursday, April 19, 2007.

Docket Numbers: ER07-656-001.

Applicants: CMT Fund IX LLC.

Description: CMT Fund IX LLC submits an amended Original Sheet 1 et al. to its FERC Electric Rate Schedule.

Filed Date: 03/29/2007.

Accession Number: 20070402-0077.

Comment Date: 5 p.m. Eastern Time on Monday, April 9, 2007.

Docket Numbers: ER07-669-000.

Applicants: New York Independent System Operator, Inc.

Description: New York Independent System Operator, Inc submits proposed revisions to its Market Administration and Control Area Services Tariff and Open Access Transmission Tariff etc.

Filed Date: 03/28/2007.

Accession Number: 20070330-0025.

Comment Date: 5 p.m. Eastern Time on Wednesday, April 18, 2007.

Docket Numbers: ER07-673-000.

Applicants: Reliant Energy Wholesale Generation, LLC.

Description: Reliant Energy Wholesale Generation, LLC submits a proposed FERC Electric Tariff, Original Volume 7 and supporting cost data etc.

Filed Date: 03/29/2007.

Accession Number: 20070330-0125.

Comment Date: 5 p.m. Eastern Time on Thursday, April 19, 2007.

Docket Numbers: ER07-674-000.

Applicants: Wisconsin Electric Power Company.

Description: Wisconsin Electric Power Company submits a Notice of Cancellation of its Master Close-Out Netting Agreement with Southern Company Energy Marketing, Rate Schedule No. 95.

Filed Date: 03/30/2007.

Accession Number: 20070402-0037.

Comment Date: 5 p.m. Eastern Time on Friday, April 20, 2007.

Docket Numbers: ER07-675-000.

Applicants: PJM Interconnection, LLC.

Description: PJM Interconnection LLC submits an executed interconnection service agreement with Allegheny Ridge Wind Farm LLC et al. and a notice of cancellation for an interconnection service agreement etc.

Filed Date: 03/29/2007.

Accession Number: 20070402-0038.

Comment Date: 5 p.m. Eastern Time on Thursday, April 19, 2007.

Docket Numbers: ER07-676-000.

Applicants: Tampa Electric Company.

Description: Tampa Electric Company submits a Third Revised Sheet 121 for inclusion in its open access transmission tariff pursuant to section 205 of the FPA etc.

Filed Date: 03/29/2007.

Accession Number: 20070402-0039.

Comment Date: 5 p.m. Eastern Time on Thursday, April 19, 2007.

Docket Numbers: ER07-677-000.

Applicants: Sierra Pacific Power Company.

Description: Sierra Pacific Power Company submits an amendment to a Power Purchase Agreement w/ Nevada Power Company pursuant to sections 205 (c) & (d) of the FPA etc.

Filed Date: 03/29/2007.

Accession Number: 20070402-0131.

Comment Date: 5 p.m. Eastern Time on Thursday, April 19, 2007.

Docket Numbers: ER07-678-000.

Applicants: Nevada Power Company.

Description: Nevada Power Company submits its amendments to two Power Purchase Agreements with Sierra Power Company.

Filed Date: 03/29/2007.

Accession Number: 20070402-0051.

Comment Date: 5 p.m. Eastern Time on Thursday, April 19, 2007.

Docket Numbers: ER07-679-000.

Applicants: Public Service Company of New Mexico.

Description: Public Service Company of New Mexico submits Substitute Sheet 207 et al. to FERC Electric Tariff, Original Volume 6.

Filed Date: 03/30/2007.

Accession Number: 20070402-0070.

Comment Date: 5 p.m. Eastern Time on Friday, April 20, 2007.

Take notice that the Commission received the following foreign utility company status filings:

Docket Numbers: FC07-21-000.

Applicants: CMS (India) Operations and Maintenance Company Private Limited.

Description: CMS (India) Operations and Maintenance Company Private Limited submits a notification of Self-Certification of Foreign Utility Company Status.

Filed Date: 03/30/2007.

Accession Number: 20070330-5017.

Comment Date: 5 p.m. Eastern Time on Friday, April 20, 2007.

Docket Numbers: FC07-22-000.

Applicants: CMS International Operating Company.

Description: CMS International Operating Company submits a notice of Self-Certification of Foreign Utility Company Status.

Filed Date: 03/30/2007.

Accession Number: 20070330-5018.

Comment Date: 5 p.m. Eastern Time on Friday, April 20, 2007.

Docket Numbers: FC07-23-000.

Applicants: ST-CMS Electric Company Private Limited.

Description: ST-CMS Electric Company Private Limited submits a Notice of Self-Certification of Foreign Utility.

Filed Date: 03/30/2007.

Accession Number: 20070330-5022.

Comment Date: 5 p.m. Eastern Time on Friday, April 20, 2007.

Docket Numbers: FC07-24-000.

Applicants: Jorf Lasfar Energy Company SCA.

Description: Jorf Lasfar Energy Co SCA submits a notice of Self-Certification of Foreign Utility Company Status.

Filed Date: 03/30/2007.

Accession Number: 20070330-5025.

Comment Date: 5 p.m. Eastern Time on Friday, April 20, 2007.

Docket Numbers: FC07-25-000.

Applicants: Shuweihat O&M Limited Partnership.

Description: Shuweihat O&M Limited Partnership submits a notice of Self-Certification of Foreign Utility Company Status.

Filed Date: 03/30/2007.

Accession Number: 20070330-5027.

Comment Date: 5 p.m. Eastern Time on Friday, April 20, 2007.

Docket Numbers: FC07-26-000.

Applicants: Jubail Energy Company.

Description: Jubail Energy Company submits a notice of Self-Certification of Foreign Utility Company Status.

Filed Date: 03/30/2007.

Accession Number: 20070330-5031.

Comment Date: 5 p.m. Eastern Time on Friday, April 20, 2007.

Docket Numbers: FC07-27-000.

Applicants: CMS Morocco Operating Company SCA.

Description: CMS Morocco Operating Co SCA submits a notice of Self-Certification of Foreign Utility Company Status.

Filed Date: 03/30/2007.

Accession Number: 20070330-5034.

Comment Date: 5 p.m. Eastern Time on Friday, April 20, 2007.

Docket Numbers: FC07-28-000.

Applicants: Shuweihat CMS International Power Company.

Description: Shuweihat CMS International Power Company submits a notice of Self-Certification Foreign Utility Company Status.

Filed Date: 03/30/2007.

Accession Number: 20070330-5037.

Comment Date: 5 p.m. Eastern Time on Friday, April 20, 2007.

Docket Numbers: FC07-29-000.

Applicants: Takoradi International Company.

Description: Takoradi International Company submits a notice of Self-Certification of Foreign Utility Company Status.

Filed Date: 03/30/2007.

Accession Number: 20070330-5040.

Comment Date: 5 p.m. Eastern Time on Friday, April 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6432 Filed 4-5-07; 8:45 am]

BILLING CODE 6717-01-P